DEPARTMENT OF TRANSPORTATION

Federal Aviation Administration

14 CFR Part 71

[Docket No. FAA-2008-0997; Airspace Docket No. 08-AAL-28]

Amendment of Class D and E Airspace; Bethel, AK

AGENCY: Federal Aviation Administration (FAA), DOT.

ACTION: Final rule.

SUMMARY: This action amends Class D and E airspace at Bethel, AK to provide to address magnetic variation changes with the Navigation Aids at the Bethel Airport. This action amends Class D and E airspace upward from the surface, and from 700 feet (ft.) and 1,200 ft. above the surface at Bethel Airport, Bethel, AK.

DATES: Effective Date: 0901 UTC, March 12, 2009. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

On Tuesday October 28, 2008, the FAA proposed to amend part 71 of the Federal Aviation Regulations (14 CFR) part 71 to amend Class D and E airspace upward from the surface, and from 700 ft. and 1,200 ft. above the surface at Bethel, AK (73 FR 63910). The Bethel Airport and its Navigation Aids will be soon undergoing a magnetic variation change. This change will result in the necessity to amend the airspace descriptions. There will be no visible change to the airspace currently depicted on aeronautical charts. Additionally, the present 1,200 foot airspace description is no longer necessary, because Bethel, Alaska lies within a larger section of Class E5 airspace, called Yukon-Kuskokwim Delta, covering the area required for the airport. The Class E4 description has been slightly modified to address small bearing and radial errors listed in the Notice of Proposed Rulemaking. Class D and E controlled airspace extending upward from the surface, and from 700 ft. and 1,200 ft. above the surface in the Bethel Airport area is amended by this action.

Interested parties were invited to participate in this rulemaking proceeding by submitting written comments on the proposal to the FAA. No comments were received. The rule is adopted as proposed.

The area will be depicted on aeronautical charts for pilot reference. The coordinates for this airspace docket are based on North American Datum 83. The Class D airspace area designations are published in paragraph 5000 of FAA Order 7400.9S, Airspace Designations and Reporting Points, signed October 3, 2008, and effective October 31, 2008, which is incorporated by reference in 14 CFR 71.1. The Class E airspace areas designated as surface areas are published in paragraph 6002 and 6004 in FAA Order 7400.9S, Airspace Designations and Reporting Points, signed October 3, 2008, and effective October 31, 2008, which is incorporated by reference in 14 CFR 71.1. The Class E airspace areas designated as 700/1,200 ft. transition areas are published in paragraph 6005 of FAA Order 7400.9S, Airspace Designations and Reporting Points, signed October 3, 2008, and effective October 31, 2008, which is incorporated by reference in 14 CFR 71.1. The Class D and E airspace designations listed in this document will be published subsequently in the Order.

The Rule

This amendment to 14 CFR part 71 amends Class D and E airspace at the Bethel Airport, Alaska. This Class D and E airspace is amended to accommodate aircraft executing instrument procedures, and will be depicted on aeronautical charts for pilot reference. The intended effect of this rule is to provide adequate controlled airspace for Instrument Flight Rules (IFR) operations at the Bethel Airport, Bethel, Alaska.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it amends Class D and E airspace to contain aircraft executing instrument procedures for the Bethel Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71— DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9S, Airspace Designations and Reporting Points, signed October 3, 2008, and effective October 31, 2008, is amended as follows:

Paragraph 5000 General.

* * * * *

AAL AK D Bethel, AK [Amended]

Bethel, Bethel Airport, AK

(Lat. 60°46′47″ N., long. 161°50′17″ W.)

Bethel VORTAC

(Lat. 60°47′05″ N., long. 161°49′28″ W.)

That airspace extending upward from the surface to and including 2,600 feet MSL within a 4.1-mile radius of the Bethel Airport, AK, excluding that portion below 1,100 feet MSL between the 058° radial and the 078° radial of the Bethel VORTAC, AK, from 2.9 miles northeast of the Bethel VORTAC, AK. This Class D airspace area is effective during the specific dates and times established in advance by a Notice to Airmen. The effective date and time will thereafter be continuously published in the Airport/Facility Directory.

* * * * *

Paragraph 6002 Class E Airspace Designated as Surface Areas.

* * * * *

AAL AK E2 Bethel, AK [Amended]

Bethel, Bethel Airport, AK

(Lat. 60°46′47″ N., long. 161°50′17″ W.)

Bethel VORTAC

(Lat. 60°47′05″ N., long. 161°49′28″ W.)

Within a 4.1-mile radius of the Bethel Airport, AK, excluding that portion below 1,100 feet MSL between the 058° radial and the 078° radial of the Bethel VORTAC, AK, from 2.9 miles northeast of the Bethel VORTAC, AK. This Class E airspace area is effective during the specific dates and times established in advance by a Notice to Airmen. The effective date and time will thereafter be continuously published in the Airport/Facility Directory.

* * * * *

Paragraph 6004 Class E Airspace Areas Designated as an Extension to a Class D Surface Area.

* * * * *

AAL AK E4 Bethel, AK [Amended]

Bethel, Bethel Airport, AK

(Lat. 60°46′47″ N., long. 161°50′17″ W.)

Bethel VORTAC

(Lat. 60°47′05″ N., long. 161°49′28″ W.)

That airspace extending upward from the surface within 3 miles each side of the 019° radial of the Bethel VORTAC, AK, extending from the 4.1-mile radius of the Bethel Airport, AK, to 8.2 miles northeast of the Bethel Airport, AK, excluding that portion below 1,100 feet MSL between the 058° radial and the 078° radial of the Bethel VORTAC, AK, from 2.9 miles northeast of the Bethel VORTAC, AK, and within 3.4 miles each side of the 005° radial of the Bethel VORTAC, AK, extending from the 4.1-mile radius of the Bethel Airport, AK, to 11 miles north of the Bethel VORTAC, AK, and within 3.5 miles each side of the 210° radial of the Bethel VORTAC, AK, extending from the 4.1-mile radius of the Bethel Airport, AK, to 5 miles southwest of the Bethel Airport, AK.

* * * * *

Paragraph 6005 Class E Airspace Extending Upward from 700 Feet or More Above the Surface of the Earth.

* * * * *

AAL AK E5 Bethel, AK [Amended]

Bethel, Bethel Airport, AK

(Lat. 60°46′47″ N., long. 161°50′17″ W.)

Bethel Localizer

(Lat. 60°46′06″ N., long. 161°50′47″ W.)

That airspace extending upward from 700 feet above the surface within a 16.8-mile radius of the Bethel Airport, AK, and within 8 miles west and 4 miles east of the Bethel Localizer front course extending from the 16.8-mile radius of the Bethel Airport, AK, to 22.8 miles north of the Bethel Airport, AK, and within 8 miles east and 4 miles west of the Bethel Localizer back course extending from the 16.8-mile radius of the Bethel Airport, AK, to 21.4 miles south of the Bethel Airport, AK.

* * * * *

Issued in Anchorage, AK, on December 29, 2008.
Anthony M. Wylie,
Manager, Alaska Flight Services Information Area Group.

[FR Doc. E9-518 Filed 1-13-09; 8:45 am]

BILLING CODE 4910-13-P